FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 2462F.

Name: Sky-Sea Forwarding Corp.

Address: 20 West Lincoln Avenue, Suite 203, Valley Stream, NY 11580.

Date Revoked: May 28, 2014.

Reason: Failed to maintain a valid bond.

License No.: 12545N.

Name: Williams Shipping & Delivery Services, Inc.

Address: 1177 Utica Avenue, Brooklyn, NY 11203.

Date Revoked: July 26, 2013.

Reason: Failed to maintain a valid bond.

License No.: 16481N.

Name: Sterling Container Line Limited.

Address: Level 7, 713-20 Metroplaza, Tower 11, 223 Hing Fong Road, Kwai Fong, N.T. Hong Kong.

Date Surrendered: June 13, 2014.

Reason: Voluntary surrender of license.

License No.: 17957NF.

Name: E.T.F. Services, Inc. dba Global Link Enterprises.

Address: 2500 83rd Street, Bergen, NJ 07047.

Date Revoked: May 29, 2014.

Reason: Failed to maintain valid bonds.

License No.: 18177N.

Name: Seariders International, Inc.

Address: 6545 Nova Drive, Suite 201, Davie, FL 33317.

Date Revoked: June 13, 2014.

Reason: Failed to maintain a valid bond.

License No.: 18183NF.

Name: Marisol International LLC.

Address: 2424 W. Kingsley, Suite C, Springfield, MO 65807.

Date Revoked: June 15, 2014.

Reason: Failed to maintain valid bonds.

License No.: 018362N.

Name: Williams Caribbean Shipping & Delivery Services, Inc.

Address: 275 Howard Avenue, Brooklyn, NY 11233.

Date Revoked: May 28, 2014.

Reason: Failed to maintain a valid bond.

License No.: 019923F.

Name: Tretaylor International, Inc.

Address: 2034 Rolling Hills Way, Rocky Face, GA 30740.

Date Revoked: May 28, 2014.

Reason: Failed to maintain a valid bond.

License No.: 020128N.

Name: Embarques Victoria Multiservices Corp.

Address: 3634 Bailey Avenue, 1st Floor, Bronx, NY 10463.

Date Revoked: May 1, 2014.

Reason: Failed to maintain a valid bond.

License No.: 020899NF.

Name: AHC Logistics Cargo Consultant, Inc.

Address: 11591 NW 50th Terrace, Doral, FL 33178.

Date Revoked: June 11, 2014.

Reason: Failed to maintain valid bonds.

License No.: 022501N.

Name: Port Line Services LLC.

Address: 481 Doremus Avenue, 1st Floor, Newark, NJ 07105.

Date Revoked: June 6, 2014.

Reason: Failed to maintain a valid bond.

License No.: 023264NF.

Name: EP-Team, Inc. dba EP-Team.

Address: 3700 Forums Drive, Suite 201, Flower Mound, TX 75028.

Date Revoked: June 14, 2014.

Reason: Failed to maintain valid bonds.

License No.: 023768F.

Name: Markland Investments, Inc.

Address: 4517 Fulton Industrial Blvd., Atlanta, GA 30336.

Date Revoked: June 4, 2014.

Reason: Failed to maintain a valid bond.

License No.: 023861NF.

Name: Rescigno Logistics Group, LLC.

Address: 1 Windsor Cove, Suite 301, Columbia, SC 29223.

Date Revoked: June 8, 2014.

Reason: Failed to maintain valid bonds.

License No.: 024273N.

Name: Evgeny Lavrentev dba Galaxy Enterprises LA.

Address: 14732 Calvert Street, Van Nuys, CA 91411.

Date Revoked: May 28, 2014.

Reason: Failed to maintain a valid bond.

License No.: 024332F.

Name: JT Freight Solutions.

Address: 1255 Corporate Center Drive, Suite 218, Monterey Park, CA 91754.

Date Surrendered: June 6, 2014.

Reason: Voluntary surrender of license.

License No.: 024540N.

Name: GB America, LLC.

Address: 19100 Von Karman Avenue, Suite 370, Irvine, CA 92612.

Date Revoked: May 25, 2014.

Reason: Failed to maintain a valid bond.

License No.: 024606N.

Name: KYS Imports & Exports Inc.

Address: 1938 Tyler Avenue, Suite O, El Monte, CA 91733.

Date Revoked: June 5, 2014.

Reason: Failed to maintain a valid bond.

Sandra L. Kusumoto,
Director, Bureau of Certification and Licensing.

[FR Doc. 2014-15376 Filed 6-30-14; 8:45 am]

BILLING CODE 6730-01-P